DEPARTMENT OF TRANSPORTATION

Surface Transportation Board

[STB Finance Docket No. 33935]

Detroit Connecting Railroad Company—Acquisition and Operation Exemption—Adrian & Blissfield Rail Road Company

Detroit Connecting Railroad Company (DCON), a noncarrier, has filed a notice of exemption under 49 CFR 1150.31 to acquire and operate approximately 2.27 miles of rail line owned by Adrian & Blissfield Rail Road Company. The line, known as the “Dequindre Line,” is part of Grand Trunk Western Railroad Incorporated's Holly Subdivision at Detroit, Wayne County, MI, and runs between milepost 1.77 and milepost 4.04. ¹ DCON certifies that its projected revenues as a result of this transaction will not result in the creation of a Class II or Class I rail carrier, and further certifies that its projected annual revenues will not exceed $5 million.

¹ See Adrian & Blissfield Rail Road Company-Acquisition Exemption-Grand Trunk Western Railroad Incorporated, STB Finance Docket No. 33692 (STB served Dec. 28, 1998).

The transaction is expected to be consummated on or shortly after September 28, 2000.

If the notice contains false or misleading information, the exemption is void ab initio. Petitions to revoke the exemption under 49 U.S.C. 10502(d) may be filed at any time. The filing of a petition to revoke will not automatically stay the transaction.

An original and 10 copies of all pleadings, referring to STB Finance Docket No. 33935, must be filed with the Surface Transportation Board, Office of the Secretary, Case Control Unit, 1925 K Street, NW., Washington, DC 20423-0001. In addition, a copy of each pleading must be served on Kenneth J. Bisdorf, 2301 West Big Beaver Road, Suite 600, Troy, MI 48084-3329.

Board decisions and notices are available on our website at “WWW.STB.DOT.GOV.”

Decided: September 26, 2000.
By the Board, David M. Konschnik, Director, Office of Proceedings.
Vernon A. Williams,
Secretary.

[FR Doc. 00-25245 Filed 10-4-00; 8:45 am]

BILLING CODE 4915-00-P